DEPARTMENT OF EDUCATION

Agency Information Collection Activities; Submission to the Office of Management and Budget for Review and Approval; Comment Request; Assessing the Role of Noncognitive and School Environmental Factors in Students' Transitions to High School in New Mexico; Docket ID Number; Correction

AGENCY: Department of Education.

ACTION: Correction notice.

SUMMARY: On August 7, 2015 the U.S. Department of Education published a 30-day comment period notice in the Federal Register Page 47482, Columns 1, 2 and 3; seeking public comment for an information collection entitled, “Assessing the Role of Noncognitive and School Environmental Factors in Students' Transitions to High School in New Mexico.” ED is requesting a correction to the Docket ID Number listed under the Addresses section of the Federal Register Notice. The correct Docket ID Number is ED-2015-ICCD-0067.

The Acting Director, Information Collection Clearance Division, Office of the Chief Privacy Officer, Office of Management, hereby issues a correction notice as required by the Paperwork Reduction Act of 1995.

Dated: August 10, 2015.
Stephanie Valentine,
Acting Director, Information Collection Clearance Division, Privacy, Information and Records Management Services, Office of Management.

[FR Doc. 2015-19898 Filed 8-12-15; 8:45 am]

BILLING CODE 4000-01-P